DEPARTMENT OF STATE

[Public Notice 4906]

Bureau of Educational and Cultural Affairs (ECA) Request for Grant Proposals for the Middle East Partnership Initiative Study of the United States (U.S.) Institutes for Student Leaders From the Middle East/North Africa

Announcement Type: New Cooperative Agreement.

Funding Opportunity Number: ECA/A/E/USS-05-07.

Catalog of Federal Domestic Assistance Number: 0000.

Key Dates:

Application Deadline: February 4, 2005.

Executive Summary: The Study of the U.S. Branch, Office of Academic Exchange Programs, Bureau of Educational and Cultural Affairs, announces an open competition for public and private non-profit organizations to develop and implement two Middle East Partnership Initiative (MEPI) Study of the United States Institutes for Undergraduate Student Leaders, and one Middle East Partnership Initiative (MEPI) Study of the United States Institute for Recent High School Graduates. Funding for these institutes is being provided by the Department of State's Middle East Partnership Initiative, the U.S. Government's primary policy and programmatic mechanism to address reform in the Middle East.

The Bureau anticipates awarding two separate assistance awards to support the institutes targeting undergraduate student leaders, and one assistance award to support a single institute for recent high school graduates (three assistance awards total). Prospective applicants are limited to submitting one proposal only to conduct one of these three programs.

I. Funding Opportunity Description

Authority: Overall grant making authority for these programs is contained inthe Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations. * * * and thus to assist in the development of friendly, sympathetic and peaceful relations between the United States and the other countries of the world.” Funding for these institutes is being provided from a transfer of FY-2005 Economic Support Funds for the Middle East Partnership Initiative.

Purpose: The Bureau is seeking detailed proposals for each “Middle East Partnership Initiative Study of the United States Institute for Undergraduate Student Leaders” and the “Middle East Partnership Initiative Study of the United States Institute for Recent High School Graduates” from accredited U.S. colleges, universities, consortia of colleges and universities, and other not-for-profit academic organizations, that have an established reputation in one or more of the following fields: political science, international relations, law, history, sociology, U.S. studies, and/or other disciplines or sub-disciplines related to the study of the United States.

The academic program for the institutes should include attention to the role and influence of principles and values such as democracy, the rule of law, individual rights, freedom of expression, equality, diversity and tolerance. Historical political, social and economic debates that have shaped U.S. society and/or current issues may be examined. The concepts of individual and civic responsibility, volunteerism and community involvement should also be addressed, and hands-on activities related to these areas should be included in the program. The grantee institution should take into account that the participants may have little or prior knowledge of the U.S. and varying degrees of experience in expressing their opinions, and should tailor the curriculum and classroom activities accordingly.

In addition to promoting a better understanding of the United States, the institute emphasizes developing the participants' leadership and collective problem solving skills. In this context, the program should include lectures as well as group discussions and exercises focusing on such topics as the essential attributes of leadership; “teambuilding;” effective communication and problem-solving skills; and management skills for diverse organizational settings.

The institutes must be serious academic programs and grantee institutions will be expected to demonstrate sensitivity in explaining the students' responsibility to take full advantage of the opportunity, fully participate in all elements of the program and prepare for discussions and activities in a serious way.

Each program should be 47 days in length including participant arrival and departure days, a 2-day pre-program orientation in Washington, DC, and a domestic travel component up to fourteen days, of which 3-4 days should be spent in Washington, DC, at the end of the program. This travel component should directly complement the academic residency segment. It should include visits to cities and other sites of interest in the region of the grantee institution.

The project director or one of the key program staff responsible for the academic program must have an advanced degree in political science, international relations, law, history, sociology, American studies and/or other disciplines or sub-disciplines related to the study of the United States. Programs must conform with Bureau requirements and guidelines outlined in the Solicitation Package. Bureau programs are subject to the availability of funds.

The institutes should be organized through an integrated, balanced series of lectures and seminar discussions that leave ample time for discussion and interaction among students, lecturers and guest speakers. Reading and writing assignments need to be adjusted to the participants' familiarity with English. Grantee institutions need to recognize the diverse characteristics and academic preparation of the students who are recent secondary school graduates or university students. Experiential learning exercises, regional travel, and site visits are important elements of the program. Institutes should also include opportunities for participants to meet American citizens from a variety of backgrounds, to interact with peers, and to speak to appropriate student and civic groups about their experiences and life in their home countries.

Applicants are encouraged to design thematically coherent programs that draw upon the particular strengths, faculty and resources of their institutions as well as upon the nationally recognized expertise of scholars and other experts throughout the United States. Within the limits of their thematic focus and organizing framework, Institute programs should also be designed to:

1. Give participants a multi-dimensional view of U.S. society and institutions that includes a broad and balanced range of perspectives. Where possible, programs should therefore include the views not only of scholars, cultural critics and public intellectuals, but also those of other professionals such as government officials, journalists and others who can substantively contribute to the topics at issue;

2. Ensure access to library and material resources that will enable grantees to continue their studies and develop follow-on projects related to the summer institute curriculum upon returning to their home institutions; and,

3. Bring an interdisciplinary or multi-disciplinary focus to bear on the program content, if appropriate.

The grantee institutions will also be expected to provide participants post-program opportunities for further investigation and research on the topics and issues examined and discussed during the institute. The Bureau will work closely with the grantee organization and with U.S. Embassies abroad to organize an alumni workshop for participants in this program at a site to be determined in the Middle East/North Africa region within six-twelve months after the conclusion of the institute. The alumni workshop will provide the students opportunities to further develop their leadership potential and interact with leaders and professionals from the Middle East/North Africa region.

The MEPI Study of the U.S. Institute for Undergraduate Student Leaders

This program is intended for 21 highly motivated undergraduates who will be entering the second or third year of college or university study in fall 2005, and who demonstrate leadership through academic work, community involvement, and extracurricular activities.

For these undergraduate institutes, leadership training and related activities should ideally be scheduled to take place at least on a weekly basis, if not more frequently, during the academic residency period, and should be integrated into the academic program wherever possible.

The MEPI Study of the U.S. Institute for Recent High School Graduates

This program is intended for a group of highly motivated students from the Middle East and North Africa who will have completed their high school studies in the summer of 2005 and who will be commencing undergraduate studies in their home countries the fall of 2005.

The expectation is that the institute for recent high school graduates will incorporate even greater emphasis on leadership and related (teambuilding, critical thinking) skills development. The program for recent high school graduates should assign roughly equal weight to the “Study of the U.S” and leadership development components.

Participants: As specified in the Project Objectives, Goals and Implementation (POGI) guidelines in the solicitation package, the MEPI Study of the U.S. Institute for Undergraduate Student Leaders should be designed for highly motivated and exemplary first and second year undergraduate students from colleges, universities and teacher training institutions in Algeria, Bahrain, Egypt, Iraq, Israel, Jordan, Kuwait, Lebanon, Libya, Morocco, Oman, Qatar, Saudi Arabia, Syria, Tunisia, the United Arab Emirates, the West Bank and Gaza, and Yemen who demonstrate leadership through academic work, community involvement, and extracurricular activities. [Note: Israeli participants will be Arab-Israelis only.]

The MEPI Study of the U.S. Institute for Recent High School Graduates should be designed for highly motivated students from these same countries who will have completed their high school studies in the summer of 2005 and who will be commencing undergraduate studies in the fall of 2005.

Participants will be identified and nominated by U.S. embassies and consulates in those countries, with final selection made by the Study of the U.S. Branch in consultation with the MEPI office. A mix of male and female participants will be included, and a mix of religious and cultural backgrounds represented. Their major fields will be varied, including the humanities, social sciences, education, business, and other professional fields. All participants will have good knowledge of English.

Please Note: While the participants will have good knowledge of English, the level of comprehension and speaking ability may vary. Therefore, the grantee institutions will be required to prepare lectures and discussions that meet high academic standards while using language appropriate for students for whom English is their second or third language.

Efforts will be made to recruit participants from non-elite backgrounds from both rural and urban sectors of the home country, and who have had little or no prior study or travel experience in the United States or elsewhere outside of their home country. All participants will be required and committed to return to their home countries to continue or commence their university studies in the fall of 2005 following completion of their institute program; be willing and able to fully participate in an intensive academic program, community service, and active educational travel program. Participants and grantee institutions must recognize that the primary purpose of the program is to develop understanding of the U.S. in a structured environment managed by the Department of State and the grantee institution. Personal travel during or after the program is not a benefit of participating in the institute. As participants will be selected in large part on the basis of their demonstrated leadership capacity, it is expected they will eventually utilize the experience derived from the program in positions of responsibility in their home countries.

The grantee institution will show sensitivity to the cultural traditions and religious practices of the participating students, who will represent a variety of Muslim and other religious traditions. Special requirements and restrictions regarding diet, daily worship, housing and medical care should be considered. The Branch will provide guidance and assistance, as needed.

Program Dates: Each program should be 47 days in length (including participant arrival and departure days and a two day pre-program orientation). The institute for undergraduate student leaders is anticipated to begin early July 2005. The institute for recent high school graduates is anticipated to begin mid-July 2005.

Program Guidelines: While the conception and structure of the institute program is the responsibility of the organizers, it is critically important that proposals provide a full, detailed and comprehensive narrative describing the objectives of the institute; the title, scope and content of each session; planned site visits; and, how each session relates to the overall institute theme. A proposed syllabus must therefore be provided indicating the subject matter for each lecture, panel discussion or other activity (e.g., group exercises), confirm or provisionally identify proposed lecturers and session leaders, and clearly shows how assigned readings will support each session. A calendar of all program activities must also be included. Additionally, applicant institutions should describe their plans for public and media outreach in connection with the program.

Note: In a cooperative agreement, the Study of the U.S. Branch is substantially involved in program activities above and beyond routine grant monitoring. Branch activities and responsibilities for this program are as follows: the Branch will participate in the selection of participants, will conduct a pre-program orientation, will exercise oversight with one or more site visits and will debrief participants while in the U.S. and also engage in follow-up communications with the participants upon their return home. The Branch may require changes in the content of the program as well as the activities proposed after the grant is awarded. The recipient will be required to obtain review and approval of significant agenda/syllabus changes in advance of their implementation.

II. Award Information

Type of Award: Cooperative Agreement. ECA's level of involvement in this program is listed under number I above.

Fiscal Year Funds: FY-2005.

Approximate Total Funding: $990,000.

Approximate Number of Awards: 3.

Approximate Average Award: $350,000.

Floor of Award Range: $285,000.

Ceiling of Award Range: $350,000.

Anticipated Award Date: Pending availability of funds, March 1, 2005.

Anticipated Project Completion Date: September 30, 2006.

Additional Information: Pending successful implementation of this program and the availability of funds in subsequent fiscal years, it is ECA's intent to renew this grant for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates awarding two assistance awards in an amount up to $320,000 each for the MEPI Study of the U.S. Institutes for Undergraduate Student Leaders and one assistance award in an amount up to $350,000 for one MEPI Study of the U.S. Institute for Recent High School Graduates. (These are the estimated sums required to support program and administrative costs to carry out these exchange programs.) Therefore, organizations with less than four years experience in conducting international exchanges are ineligible to apply under this competition.

(b) Technical Eligibility: All proposals must comply with the following: The project director or one of the key program staff responsible for the academic program must have an advanced degree in one of the following fields: political science, international relations, law, history, sociology, literature, a U.S. studies field, and/or other disciplines or sub-disciplines related to the program themes.

Failure to meet these criteria will result in your proposal being declared technically ineligible and given no further consideration in the review process.

IV. Application and Submission Information

Note: Please read the complete Federal Register announcement before sending inquiries or submitting proposals. The Branch staff will be available to consult with prospective applicant institutions about proposal preparation and program design and content up until the proposal submission deadline. Once the RFGP deadline has passed, Bureau staff may not discuss this competition with applicants until the proposal review process has been completed.

IV.1. Contact Information To Request an Application Package

Please contact the Branch for the Study of the U.S., ECA/A/E/USS, Room Number 252, U.S. Department of State, SA-44, 301 4th Street, SW., Washington, DC 20547, telephone number (202) 260-0535 and fax number (202) 619-6790, e-mail PallaresJE@State.gov to request a Solicitation Package. Please refer to the Funding Opportunity Number: ECA/A/E/USS-05-07-MEU (Institute for Undergraduate Student Leaders) or ECA/A/E/USS-05-07-MEHS (Institute for Recent High School Graduates) when making your request.

The Solicitation Package contains the Proposal Submission Instruction (PSI) document which consists of required application forms, and standard guidelines for proposal preparation.

It also contains the Project Objectives, Goals and Implementation (POGI) document, which provides specific information, award criteria and budget instructions tailored to this competition.

Please specify program officer Julia Pallares and refer to the Funding Opportunity Number ECA/A/E/USS-05-07 located on the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and ten (10) copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the solicitation package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Please refer to Solicitation Package for further information.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please Note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe Your Plans for Overall Program Management, Staffing, and Coordination With the Study of the U.S. Branch. The Branch considers program management, staffing and coordination with the Department of State essential elements of your program. Please be sure to give sufficient attention to these elements in your proposal. Please refer to the Technical Eligibility Requirements and the POGI in the Solicitation package for specific guidelines.

IV.3e. Please Take the Following Information Into Consideration When Preparing Your Budget:

IV.3e.1. Applicants must submit a comprehensive budget for the entire program. There must be a summary budget as well as breakdowns reflecting both administrative and program budgets. Applicants may provide separate sub-budgets for each program component, phase, location, or activity to provide clarification.

MEPI Study of the U.S. Institute for Undergraduate Student Leaders

Based on a group of 21 participants, the total Bureau-funded budget (program and administrative) for this institute should be up to approximately $320,000.

MEPI Study of the U.S. Institute for Recent High School Graduates

Based on a group of 21 participants, the total Bureau-funded budget (program and administrative) for this institute should be up to approximately $350,000.

Justifications for any costs above these amounts must be clearly indicated in the proposal submission. Proposals should try to maximize cost-sharing in all facets of the program and to stimulate U.S. private sector, including foundation and corporate, support. Applicants must submit a comprehensive budget for the entire program. The Bureau reserves the right to reduce, revise, or increase proposal budgets in accordance with the needs of the program, and availability of U.S. government funding.

Please refer to the “POGI” in the Solicitation Package for complete institute budget guidelines and formatting instructions.

IV.3e.2. Allowable Costs for the Program Include the Following:

(1) Institute staff salary and benefits.

(2) Honoraria for guest speakers.

(3) Participant per diem.

Please refer to the Solicitation Package for complete budget guidelines and formatting instructions.

IV.3f. Submission Dates and Times:

Application Deadline Date: Friday, February 4, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important Note: When preparing your submission please make sure to include one extra copy of the completed SF-424 form and place it in an envelope addressed to “ECA/EX/PM.”

The original and ten (10) copies of the application for the MEPI Study of the U.S. Institute for Student Leaders should be sent to: U.S. Department of State, SA-44, Bureau of Educational and Cultural Affairs, Program Management, ECA/EX/PM, Room 534, 301 4th Street, SW., Washington, DC 20547.

Please Note: For the MEPI Study of the U.S. Undergraduate Student Leaders Program use reference number: ECA/A/E/USS-05-07-MEU.

For the MEPI Study of the U.S. Institute for Recent High School Graduates use reference number: ECA/A/E/USS-05-07-MEHS.

Along with the Project Title, all applicants must enter the above Reference Numbers in Box 11 on the SF-424 contained in the mandatory Proposal Submission Instructions (PSI) of the solicitation document.

IV.3g. Intergovernmental Review of Applications: Executive Order 12372 does not apply to this program.

Applicants are also requested to submit the “Executive Summary” and “Proposal Narrative” sections of the proposal in text (.txt) format on a PC-formatted disk.

V. Application Review Information

V.1. Review Process

The Bureau will review all proposals for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Overall Quality: Proposals should exhibit originality and substance, consonant with the highest standards of American teaching and scholarship, and be suitable for students with English as their second or third language. Program elements should be tailored for students with limited knowledge of the U.S. and with varying degrees of experience in expressing their opinions. Lectures, panels, and other interactive classroom activities, readings, community service, and site visits, taken as a whole, should offer a balanced presentation of issues, reflecting both the continuity of the American experience as well as its inherent diversity and dynamism.

2. Program Planning and Administration: Proposals should demonstrate careful planning. The organization and structure of the institute should be clearly delineated and be fully responsive to all program objectives. A program syllabus (noting specific sessions and topical readings supporting each academic unit) should be included, as should a calendar of activities. The travel component should not simply be a tour, but should be an integral and substantive part of the program, reinforcing and complementing the academic segment. Proposals should provide evidence of continuous administrative and managerial capacity as well as the means by which program activities and logistical matters will be implemented.

3. Ability to Achieve Program Objectives: Objectives should be reasonable, feasible, and flexible. Proposals should clearly demonstrate how the institution will meet the program's objectives and plan.

4. Institutional Capacity: Proposed personnel, including faculty and administrative staff as well as outside presenters, should be fully qualified to achieve the project's goals. Library and meeting facilities, housing, meals, transportation and other logistical arrangements should fully meet the needs of participants.

5. Institution's Record/Ability: Proposals should demonstrate an institutional record of successful exchange program activities, indicating the experience that the organization and its professional staff have had working with foreign students. The Bureau will consider the past performance of prior recipients and the demonstrated potential of new applicants.

6. Support of Diversity: Proposals should demonstrate substantive support of the Bureau's policy on diversity. “Diversity” should be interpreted in the broadest sense and encompass differences including, but not limited to ethnicity, race, gender, religion, geographic location, socio-economic status, and disabilities. Applicants are strongly encouraged to adhere to the advancement of this principle both in program administration and in program content. Applicant should highlight instances of diversity in their proposal.

7. Evaluation and Follow-up: Proposals should include a plan to evaluate the activity's success, both as the activities unfold and at the end of the program. A draft survey questionnaire or other technique plus description of a methodology to link outcomes to original project objectives is strongly recommended. Proposals should discuss provisions made for follow-up with returned grantees as a means of establishing longer-term individual and institutional linkages.

8. Cost-effectiveness: The overhead and administrative components of the proposal, including salaries and honoraria, should be kept as low as possible. All other items should be necessary and appropriate.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus two copies of the following reports:

Mandatory: (1.) A final program and financial report no more than 90 days after the conclusion of the institute;

Grantees will be required to provide reports analyzing their evaluation findings to the Bureau in their regular program reports. (Please refer to IV. Application and Submission Instructions (IV.3d.3) above for Program Monitoring and Evaluation information.

All data collected, including survey responses and contact information, must be maintained for a minimum of three years and provided to the Bureau upon request.

All reports must be sent to the ECA Grants Officer and ECA Program Officer listed in the final assistance award document.

VI.4. Optional Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least three work days prior to the official opening of the activity.

VII. Agency Contacts

For questions about this announcement, contact: Branch for the Study of the U.S., ECA/A/E/USS, Room Number 252, ECA/A/E/USS-05-07-MEU for the Institute for Undergraduate Student Leaders, and ECA/A/E/USS-05-07-MEHS for the Institute for Recent High School Graduates, the U.S. Department of State, SA-44, 301 4th Street, SW., Washington, DC 20547, telephone number (202) 260-0535 and fax number (202) 619-6790, e-mail: PallaresJE@State.gov.

All correspondence with the Bureau concerning this RFGP should reference the above title and number ECA/A/E/USS-05-07-MEU or ECA/A/E/USS-05-07-MEHS.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: November 18, 2004.
C. Miller Crouch,
Principal Deputy Assistant Secretary, Bureau of Educational and Cultural Affairs, Department of State.

[FR Doc. 04-26171 Filed 11-24-04; 8:45 am]

BILLING CODE 4710-05-P